DEPARTMENT OF COMMERCE

National Oceanic and Atmospheric Administration

[Docket ID No.: NOAA-NOS-2022-0033]

Deep Seabed Hard Minerals; Request for Extension of Exploration Licenses; Comments Request

AGENCY: Office for Coastal Management (OCM), National Ocean Service (NOS), National Oceanic and Atmospheric Administration (NOAA), Department of Commerce (DOC).

ACTION: Notice of receipt of application to extend Deep Seabed Mineral Exploration Licenses USA-1 and USA-4; request for comments.

SUMMARY: NOS has received from the Lockheed Martin Corporation (“Lockheed Martin” or “Licensee”) a request to extend to 2027 two deep seabed hard mineral exploration licenses issued pursuant to the Deep Seabed Hard Mineral Resources Act (DSHMRA). Lockheed Martin's extension request includes an updated exploration plan for activities conducted under the licenses. Lockheed Martin's request and accompanying exploration plan are available for public review and comment on whether the Licensee has met the criteria for the issuance of extensions specified in DSHMRA.

DATES: Comments may be submitted on or before May 17, 2022.

ADDRESSES: To access and review all documents related to the extension request under consideration, please use http://www.regulations.gov by searching the Docket ID number NOAA-NOS-2022-0033. Comments submitted in response to this notice should be submitted electronically through the Federal eRulemaking Portal at http://www.regulations.gov by selecting the Docket ID number.

FOR FURTHER INFORMATION CONTACT: Kerry Kehoe, Federal Consistency Specialist, NOAA Office of Coastal Management, at kerry.kehoe@noaa.gov, or at 240-560-8515.

SUPPLEMENTARY INFORMATION: NOAA has received an application from Lockheed Martin for a five-year extension of its two Deep Seabed Hard Mineral Exploration Licenses, USA-1 and USA-4. Lockheed Martin's application includes a single revised exploration plan for both licenses that sets forth the activities to be conducted during the extension.

DSHMRA exploration licenses USA-1 and USA-4 were issued in 1984 and both are presently held by Lockheed Martin. USA-1 and USA-4 were most recently extended in 2017 (82 FR 42327, September 7, 2017). The current terms of Exploration Licenses USA-1 and USA-4 end on June 2, 2022. Section 107(a) of DSHMRA provides that NOAA shall extend exploration licenses for a term of not more than five years if the licensee has substantially complied with the license and exploration plan and has requested an extension of the license. 30 U.S.C. 1417.

Lockheed Martin has submitted this request to maintain its interests and rights under these exploration licenses. Lockheed Martin is not currently conducting at-sea activities under DSHMRA exploration licenses USA-1 or USA-4, nor is the company proposing any such activities in this license extension request. Lockheed Martin has stated that at-sea exploration activities have been delayed for several reasons including conditions in the metals markets and the lack of international recognition of the DSHMRA licenses USA-1 and USA-4.

DSHMRA, which establishes a domestic licensing regime for United States citizens who engage in exploration of deep seabed hard mineral resources in areas beyond national jurisdiction, was enacted in 1980 as an interim statute pending the completion of negotiations on a Law of the Sea Convention (LOSC) acceptable to the United States. See 30 U.S.C. 1401(a). Although the LOSC was opened for signature in 1982, the United States has yet to become a party, and thus is not a member of the International Seabed Authority (ISA), the body established under LOSC to regulate deep seabed mining and award exploration and mining contracts in areas beyond national jurisdiction. DSHMRA exploration licenses USA-1 and USA-4 predate the establishment of the ISA in 1994. As the United States is not a party to the Law of the Sea Convention and thus not a member of the ISA, the United States is unable to seek from the ISA an exploration contract to obtain international legal recognition of Lockheed Martin's domestic law rights under DSHMRA exploration licenses USA-1 and USA-4. Recently, the ISA established an Area of Particular Environmental Interest that partially overlaps with DSHMRA exploration license USA-1. The ISA designation has no bearing on the extension request currently under consideration as it is not within the criteria specified within DSHMRA and its implementing regulations for granting license extensions.

During the requested five-year extension, Lockheed Martin would continue to conduct various preparatory activities in advance of at-sea exploration, which may become feasible at some future date. If NOAA grants this extension request, Lockheed Martin would need to obtain additional authorization from the agency before it would be allowed to conduct at-sea exploration activities under these licenses. Among other requirements, any request by Lockheed Martin for authorization from NOAA to conduct at-sea exploration activities would require the agency to conduct additional environmental analysis pursuant to NOAA's obligations under the National Environmental Policy Act, 42 U.S.C. 4321 et seq., and DSHMRA.

NOAA is required under 30 U.S.C. 1417 to approve an extension request if the licensee has substantially complied with the license and its associated exploration plan. In determining substantial compliance, the DSHMRA implementing regulations at 15 CFR 970.515(b) provide that NOAA may make allowance for deviation from the exploration plan for good cause such as significantly changed market conditions.

The request for extension and revised exploration plan can be viewed at www.regulations.gov, by searching for docket number “NOAA-NOS-2022-0033”. NOAA is seeking comments on Lockheed Martin's request to extend DSHMRA exploration licenses USA-1 and USA-4 including whether the company has substantially complied with the licenses and exploration plans, and whether the revised exploration plans for USA-1 and USA-4 meet the terms, conditions and restrictions of DSHMRA and the licenses issued thereunder.

Keelin S. Kuipers,
Deputy Director, Office for Coastal Management, National Ocean Service, National Oceanic and Atmospheric Administration.

[FR Doc. 2022-05793 Filed 3-17-22; 8:45 am]

BILLING CODE 3510-08-P